NUCLEAR REGULATORY COMMISSION

Final Regulatory Guide: Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Like its predecessor, Revision 1 of Regulatory Guide 1.196, “Control Room Habitability at Light-Water Nuclear Power Reactors,” provides guidance and criteria that the staff of the U.S. Nuclear Regulatory Commission (NRC) considers acceptable for implementing the agency's regulations in Appendix A, “General Design Criteria for Nuclear Power Plants,” to Title 10, Part 50, of the Code of Federal Regulations (10 CFR part 50), “Domestic Licensing of Production and Utilization Facilities,” as they relate to control room habitability (CRH). Specifically, this guide outlines a process that licensees may apply to control rooms that are modified, are newly designed, or must have their conformance to the regulations reconfirmed.

In Appendix A to 10 CFR Part 50, General Design Criteria (GDC) 1, 3, 4, 5, and 19 apply to CRH, as follows:

• GDC 1, “Quality Standards and Records,” requires that structures, systems, and components (SSCs) important to safety be designed, fabricated, erected, and tested to quality standards commensurate with the importance of the safety functions performed.

• GDC 3, “Fire Protection,” requires that SSCs important to safety be designed and located to minimize the effects of fires and explosions.

• GDC 4, “Environmental and Dynamic Effects Design Bases,” requires SSCs important to safety to be designed to accommodate the effects of, and to be compatible with, the environmental conditions associated with normal operation, maintenance, testing, and postulated accidents, including loss-of-coolant accidents (LOCAs).

• GDC 5, “Sharing of Structures, Systems, and Components,” requires that SSCs important to safety not be shared among nuclear power units unless it can be shown that such sharing will not significantly impair their ability to perform their safety functions, including, in the event of an accident in one unit, the orderly shutdown and cooldown of the remaining units.

• GDC 19, “Control Room,” requires that a control room be provided from which actions can be taken to operate the nuclear reactor safely under normal conditions and to maintain the reactor in a safe condition under accident conditions, including a LOCA. Adequate radiation protection is to be provided to permit access and occupancy of the control room under accident conditions without personnel receiving radiation exposures in excess of specified values.

Since the NRC initially issued Regulatory Guide 1.196 in May 2003, the staff determined that the information presented in Appendix B to that guide did not accurately represent a viable technical specification for CRH at light-water nuclear power reactors. In particular, it referred to failure of a particular surveillance as a plant state, rather than having the results of the surveillance factor into the operability determination. In addition, it did not provide for a definite time to restore functionality to the control room envelope, whereas all improved standard technical specifications (iSTS) contain such provisions. Moreover, Appendix B was included as a “strawman,” to be deleted when details had been more carefully worked out with industry participation, and those technical specifications placed in the iSTS with all other acceptable technical specifications.

As of the publication date of this Revision 1 of Regulatory Guide 1.196, no utility has been granted the technical specification changes represented by Appendix B to the original version of this guide. Consequently, the NRC staff elected to remove Appendix B (and all related references) from this revision. Removal of Appendix B from this revised guide does not require any stakeholder to take any action and does not reduce safety in any way. Moreover, public meetings with the owners' group Technical Specification Task Force have provided ample opportunity for public comment regarding this revision. Therefore, the staff views the removal of Appendix B as a neutral action, for which further public comments are unnecessary. For that reason, the staff chose not to issue this revision as a draft guide for public comment before publishing this Revision 1 of Regulatory Guide 1.196. Nonetheless, the NRC staff encourages and welcomes comments and suggestions in connection with improvements to published regulatory guides, as well as items for inclusion in regulatory guides that are currently being developed. You may submit comments by any of the following methods.

Mail comments to: Rulemaking, Directives and Editing Branch, Office of Administration, U.S. Nuclear Regulatory Commission, Washington, DC 20555-0001.

Hand-deliver comments to: Rulemaking, Directives and Editing Branch, Office of Administration, U.S. Nuclear Regulatory Commission, 11555 Rockville Pike, Rockville, Maryland 20852, between 7:30 a.m. and 4:15 p.m. on Federal workdays.

Fax comments to: Rulemaking, Directives and Editing Branch, Office of Administration, U.S. Nuclear Regulatory Commission at (301) 415-5144.

Requests for technical information about Revision 1 of Regulatory Guide 1.196 may be directed to Harold Walker, at (301) 415-2827 or HXW@nrc.gov.

Regulatory guides are available for inspection or downloading through the NRC's public Web site at http://www.nrc.gov/reading-rm/doc-collections/reg-guides/. In addition, Revision 1 of Regulatory Guide 1.196 is available for inspection or downloading through ADAMS at http://www.nrc.gov/reading-rm/adams.html, under Accession #ML063560144.

Revision 1 of Regulatory Guide 1.196 and other related publicly available documents can also be viewed electronically on computers in the NRC's Public Document Room (PDR), which is located at 11555 Rockville Pike, Rockville, Maryland. The PDR's reproduction contractor will make copies of documents for a fee. The PDR's mailing address is USNRC PDR, Washington, DC 20555-0001. The PDR can also be reached by telephone at (301) 415-4737 or (800) 397-4205, by fax at (301) 415-3548, and by e-mail to PDR@nrc.gov.

Please note that the NRC does not intend to distribute printed copies of Revision 1 of Regulatory Guide 1.196, unless specifically requested on an individual basis with adequate justification. Such requests for single copies of draft or final guides (which may be reproduced) should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 23rd day of January, 2007.
For the U.S. Nuclear Regulatory Commission.
Brian W. Sheron,
Director, Office of Nuclear Regulatory Research.

[FR Doc. E7-2088 Filed 2-7-07; 8:45 am]

BILLING CODE 7590-01-P